INTERNATIONAL TRADE COMMISSION

[Investigation Nos. 701-TA-388-391 and 731-TA-817-821 ;Second Review]

Cut-to-Length Carbon-Quality Steel Plate From India, Indonesia, Italy, Japan, and Korea; Revised schedule for the subject reviews.

AGENCY: United States International Trade Commission.

ACTION: Notice.

DATES: Effective Date: September 7, 2011.

FOR FURTHER INFORMATION CONTACT: Angela M. W. Newell (202-708-5409), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this proceeding may be viewed on the Commission's electronic docket (EDIS) at http://edis.usitc.gov.

SUPPLEMENTARY INFORMATION: On April 18, 2011, the Commission established a schedule for the conduct of the subject five-year reviews (76 FR 22725, April 22, 2011). Due to scheduling conflicts, the Commission is issuing a revised schedule.

Specifically, the Commission will hold its hearing on October 19, 2011, beginning at 10 a.m. Posthearing briefs will be due on October 28, 2011.

For further information concerning this proceeding see the Commission's notice cited above and the Commission's Rules of Practice and Procedure, part 201, subparts A through E (19 CFR part 201), and part 207, subparts A and F (19 CFR part 207).

Authority: This proceeding is being conducted under authority of title VII of the Tariff Act of 1930; this notice is published pursuant to section 207.62 of the Commission's rules.

By order of the Commission.
Issued: September 8, 2011.
James R. Holbein,
Secretary to the Commission.

[FR Doc. 2011-23438 Filed 9-13-11; 8:45 am]

BILLING CODE 7020-02-P